ENVIRONMENTAL PROTECTION AGENCY

40 CFR Part 52

[EPA-R09-OAR-2010-0276; FRL-9139-7]

Revisions to the California State Implementation Plan, South Coast Air Quality Management District

AGENCY: Environmental Protection Agency (EPA).

ACTION: Direct final rule.

SUMMARY: EPA is taking direct final action to approve revisions to the South Coast Air Quality Management District (SCAQMD) portion of the California State Implementation Plan (SIP). These revisions concern standards for continuous emission monitoring systems. We are approving local rules that regulate the monitoring of emissions under the Clean Air Act as amended in 1990 (CAA or the Act).

DATES: This rule is effective on August 9, 2010 without further notice, unless EPA receives adverse comments by July 8, 2010. If we receive such comments, we will publish a timely withdrawal in the Federal Register to notify the public that this direct final rule will not take effect.

ADDRESSES: Submit comments, identified by docket number EPA-R09-OAR-2010-0276, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment. Electronic files should avoid the use of special characters, any form of encryption, and be free of any defects or viruses.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us,” and “our” refer to EPA.

Table of Contents

I. The State's Submittal

A. What rules did the State submit?

B. Are there other versions of these rules?

C. What is the purpose of the submitted rule revisions?

II. EPA's Evaluation and Action

A. How is EPA evaluating the rules?

B. Do the rules meet the evaluation criteria?

C. EPA Recommendations to Further Improve the Rules.

D. Public Comment and Final Action

III. Statutory and Executive Order Reviews

I. The State's Submittal

A. What rules did the State submit?

Table 1 lists the rules we are approving with the dates that they were adopted/amended by the local air agency and submitted by the California Air Resources Board.

Table 1—Submitted Rules
Local agency | Rule no. | Rule title | Adopted/amended | Submitted
SCAQMD | 218 | Continuous Emission Monitoring | 05/14/99 | 07/23/99
SCAQMD | 218.1 | Continuous Emission Monitoring Performance Specifications | 05/14/99 | 07/23/99

On January 23, 2000, the submittal for SCAQMD Rules 218 and 218.1 was deemed by operation of law to meet the completeness criteria in 40 CFR part 51 appendix V, which must be met before formal EPA review.

B. Are there other versions of these rules?

We approved an earlier version of Rule 218 into the SIP on July 6, 1982 (47 FR 29231). The SCAQMD adopted revisions to the SIP-approved version on May 14, 1999 and CARB submitted them to us on July 23, 1999. There is no prior version of Rule 218.1.

C. What is the purpose of the submitted rule revisions?

Oxides of Nitrogen (NOX) help produce ground-level ozone, smog and particulate matter, which harm human health and the environment. Sulfur Dioxide (SO2) exposure is associated with adverse respiratory effects and can contribute to the formation of fine particle pollution. Carbon Monoxide (CO) contributes to the formation of smog and can also harm human health. Section 110(a) of the CAA requires States to submit regulations that control the primary and secondary National Ambient Air Quality Standards (NAAQS), which includes NOX, SO2 and CO emissions.

Rule 218 establishes requirements for continuous stack emission monitors of NOX, SO2, gaseous sulfur compounds, and CO. Rule 218 was amended to better define specifications and guidelines for continuous emission monitoring systems (CEMS) to eliminate ambiguity in both the administrative and technical provisions of the rule. The original SIP approved rule was then separated into an administrative portion and a technical portion. Rule 218 now contains the administrative requirements for CEMS and covers applicability, the application and approval process for CEMS, and recordkeeping and reporting requirements for CEMS. The technical requirements for CEMS were updated and form the basis for a new rule, Rule 218.1.

Rule 218.1 is a new rule and contains requirements for the certification of CEMS, the performance specifications of CEMS, and the operation and maintenance of CEMS.

EPA's technical support documents (TSD) have more information about these rules.

II. EPA's Evaluation and Action

A. How is EPA evaluating the rules?

Generally, SIP rules must be enforceable (see section 110(a) of the Act) and must not relax existing requirements (see sections 110(l) and 193). The SCAQMD regulates an ozone nonattainment area and a PM nonattainment area (see 40 CFR part 81).

Guidance and policy documents that we use to evaluate enforceability requirements consistently include the following:

1. “Issues Relating to VOC Regulation Cutpoints, Deficiencies, and Deviations,” EPA, May 25, 1988 (the Bluebook).

2. “Guidance Document for Correcting Common VOC & Other Rule Deficiencies,” EPA Region 9, August 21, 2001 (the Little Bluebook).

3. 40 CFR 60 Appendix B—Performance Specifications

4. 40 CFR 60 Appendix F—Quality Assurance Procedures

B. Do the rules meet the evaluation criteria?

We believe these rules are consistent with the relevant policy and guidance regarding enforceability and SIP relaxations. The TSD has more information on our evaluation.

C. EPA Recommendations to Further Improve the Rules

The TSDs describe additional rule revisions that we recommend for the next time SCAQMD modifies Rules 218 and 218.1. These recommendations are to: increase the records retention requirement to five years in Rule 218, remove the de minimus concentration option for the relative accuracy performance specifications for NOX and CO, and evaluate the ppropriateness of the de minimus concentration option for the relative accuracy performance specifications for SO2 and reduced sulfur compounds the next time Rule 218.1 is amended.

D. Public Comment and Final Action

As authorized in section 110(k)(3) of the Act, EPA is fully approving the submitted rules because we believe they fulfill all relevant requirements. We do not think anyone will object to this approval, so we are finalizing it without proposing it in advance. However, in the Proposed Rules section of this Federal Register, we are simultaneously proposing approval of the same submitted rules. If we receive adverse comments by July 8, 2010, we will publish a timely withdrawal in the Federal Register to notify the public that the direct final approval will not take effect and we will address the comments in a subsequent final action based on the proposal. If we do not receive timely adverse comments, the direct final approval will be effective without further notice on August 9, 2010. This will incorporate these rules into the federally enforceable SIP.

Please note that if EPA receives adverse comment on an amendment, paragraph, or section of this rule and if that provision may be severed from the remainder of the rule, EPA may adopt as final those provisions of the rule that are not the subject of an adverse comment.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Intergovernmental relations, Nitrogen dioxide, Ozone, Particulate matter, Carbon Monoxide, Reporting and recordkeeping requirements.

Dated: April 1, 2010.
Jared Blumenfeld,
Regional Administrator, Region IX.

Part 52, Chapter I, Title 40 of the Code of Federal Regulations is amended as follows:

PART 52—[AMENDED]

1. The authority citation for Part 52 continues to read as follows:

Authority: 42 U.S.C. 7401 et seq.

Subpart F—California

2. Section 52.220, is amended by adding paragraphs (c)(268) (i)(A)(2)and(3)to read as follows:

§ 52.220 Identification of plan.

* * * * *

(c) * * *

(268) * * *

(i) * * *

(A) * * *

(2) Rule 218, “Continuous Emission Monitoring,” amended on May 14, 1999.

(3) Rule 218.1, “Continuous Emission Monitoring Performance Specification,” adopted on May 14, 1999.

* * * * *

[FR Doc. 2010-13681 Filed 6-7-10; 8:45 am]

BILLING CODE 6560-50-P